ENVIRONMENTAL PROTECTION AGENCY

[9968-44-Region 1]

Proposed First Amendment to CERCLA Administrative Settlement Agreement and Order on Consent; Great Lakes Container Corporation Superfund Site, Coventry, Rhode Island

AGENCY: Environmental Protection Agency (EPA).

ACTION: Notice of proposed settlement; request for public comments.

Notice is hereby given of a proposed First Amendment to Administrative Settlement Agreement and Order on Consent (“Settlement Agreement Amendment”) under the Comprehensive Environmental Response Compensation, and Liability Act, as amended (“CERCLA”), concerning the Great Lakes Container Corporation Superfund Site in Coventry, Rhode Island with the following settling parties: Teknor Apex Company, and J P Hass and Sons and its affiliate, Hass Brothers, Inc. Pursuant to the terms of the Administrative Settlement Agreement and Order on Consent (“Settlement Agreement”), EPA Region 1 CERCLA Docket No. 01-2009-0010, with an effective date of June 8, 2010, between EPA Region 1 and certain Respondents, the Settlement Agreement is proposed to be revised to include Teknor Apex Company, and J P Hass & Sons and its affiliate, Haas Brothers, Inc., within Appendix D.3 as additional Drum Reconditioning Customers and Respondents. The Settlement Agreement Amendment requires Teknor Apex Company and J P Hass & Sons to each separately pay $7,692.00 for Past Costs into the EPA Hazardous Substance Superfund.

For 30 days following the date of publication of this notice, EPA will receive written comments relating to the Settlement Agreement Amendment. EPA will consider all comments received and may modify or withdraw its consent to the Settlement Agreement Amendment if comments received disclose facts or considerations which indicate that the Settlement Agreement Amendment is inappropriate, improper, or inadequate. EPA's response to comments received will be available for public inspection at 5 Post Office Square, Boston, MA 02109-3912.

DATES: Comments must be submitted by November 1, 2017.

ADDRESSES: Comments should be addressed to John Hultgren, Enforcement Counsel, U.S. Environmental Protection Agency, 5 Post Office Square, Suite 100 (OES04-2), Boston, MA 02109-3912; (617) 918-1761, and should refer to: In re: Great Lakes Container Corporation Superfund Site, EPA Region 1 CERCLA Docket No. 01-2009-0010.

FOR FURTHER INFORMATION CONTACT: A copy of the proposed Settlement Agreement Amendment and the June 8, 2010 Settlement Agreement may be obtained from John Hultgren, Enforcement Counsel, U.S. Environmental Protection Agency, 5 Post Office Square, Suite 100 (OES04-2), Boston, MA 02109-3912; (617) 918-1761; hultgren.john@epa.gov.

SUPPLEMENTARY INFORMATION: The Settlement Agreement Amendment includes a covenant from EPA not to sue pursuant to Sections 106 and 107(a) of CERCLA, 42 U.S.C. 9606 and 9607 for the Work, Past Response Costs, and Future Response costs, as those terms are defined under the Settlement Agreement, and protection from contribution actions or claims as provided by Sections 113(f)(2) and 122(h)(4) of CERCLA, 42 U.S.C. 9613(f)(2) and 9622(h)(4).

Dated: September 5, 2017.
Bryan Olson,
Director, Office of Site Remediation and Restoration.

[FR Doc. 2017-21116 Filed 9-29-17; 8:45 am]

BILLING CODE 6560-50-P